DEPARTMENT OF DEFENSE

Department of the Army

Conservation Measures for Transfer of Federal Land at Parks Reserve Forces Training Area, Dublin, CA

AGENCY: Department of the Army, DoD.

ACTION: Notice of requirement.

SUMMARY: Pursuant to the proposed conservation measures found within the U.S. Fish and Wildlife Service Biological Opinion #1106F1752 dated December 18, 2006, acceptance of any portion of the 170.5-acre land exchange property located at Parks Reserve Forces Training Area (PFRTA), Dublin, CA is conditioned on the developer engaging the U.S. Fish and Wildlife Service in Section 7 or Section 10 Endangered Species Act consultation prior to the development of the aforementioned land. This consultation requirement is because of the potential loss of habitat and potential for take of the endangered San Joaquin Kit Fox (Vulpes macrotis mutica), the threatened California red-legged frog (Rana aurora draytonii), and the threatened California tiger salamander (Ambystoma californiense).

ADDRESSES: Public Affairs Office, U.S. Army CTSC, Camp Parks, 790 5th Street, Dublin, CA 94568-5201.

FOR FURTHER INFORMATION CONTACT: Amy Phillips, (925) 875-4298, amy.phillips@usar.army.mil.

SUPPLEMENTARY INFORMATION: A Request for Proposal (RFP) regarding the 170.5-acre land exchange property will be available upon request.

Kevin R. Riedler,
Colonel, U.S. Army, Commanding.

[FR Doc. E7-24193 Filed 12-12-07; 8:45 am]

BILLING CODE 3710-08-P